DEPARTMENT OF VETERANS AFFAIRS

38 CFR Part 17

[Docket No. VA-2025-VHA-0004]

RIN 2900-AS23

Exempting Whole Health Well-Being Services From Copayment

AGENCY: Department of Veterans Affairs.

ACTION: Proposed rule; withdrawal.

SUMMARY: The Department of Veterans Affairs (VA) is withdrawing a document published in the Federal Register on January 3, 2025, that requested public comment on VA's proposal to revise its medical regulations to exempt Whole Health well-being services from the copayment requirements for inpatient hospital care and outpatient medical care. VA is withdrawing the proposed rule due to ongoing assessments of agency needs, priorities, and objectives.

DATES: The proposed rule published at 90 FR 279 on January 3, 2025, is withdrawn as of November 21, 2025.

ADDRESSES: The docket for this withdrawn proposed rule is available at www.regulations.gov/docket/VA-2025-VHA-0004.

FOR FURTHER INFORMATION CONTACT: Dr. Kavitha Reddy, Associate Director, Employee Whole Health, Veterans Health Administration, (314) 312-8126.

SUPPLEMENTARY INFORMATION: In a document published in the Federal Register on January 3, 2025, VA proposed to exempt Whole Health well-being services from the copayment requirements for inpatient hospital care and outpatient medical care to further encourage veteran utilization of these services. Whole Health well-being services, which consist of Whole Health education and skill-building programs and complementary and integrative health well-being services, are provided to veterans within the VA Whole Health System of Care.

VA is withdrawing the proposed rule due to ongoing assessments of agency needs, priorities, and objectives. VA appreciates the public comments submitted and continues to consider the best means of addressing some or all of the issues covered in the proposed rule. If, in the future, VA decides it is appropriate to issue regulations on this topic, VA will do so through a new notice of proposed rulemaking, subject to the requirements of the Administrative Procedure Act, 5 U.S.C. 551, et seq.

Signing Authority

Douglas A. Collins, Secretary of Veterans Affairs, approved this document on October 1, 2025, and authorized the undersigned to sign and submit the document to the Office of the Federal Register for publication electronically as an official document of the Department of Veterans Affairs.

Joseph Montanye,
Alternate Federal Register Liaison Officer, Department of Veterans Affairs.

[FR Doc. 2025-20561 Filed 11-20-25; 8:45 am]

BILLING CODE 8320-01-P